NUCLEAR REGULATORY COMMISSION

10 CFR Part 72

[NRC-2012-0052]

RIN 3150-AJ12

List of Approved Spent Fuel Storage Casks: HI-STORM 100 Cask System; Amendment No. 9

AGENCY: Nuclear Regulatory Commission.

ACTION: Proposed rule; correction and extension of comment period.

SUMMARY: The U.S. Nuclear Regulatory Commission (NRC) is correcting a proposed rule that appeared in the Federal Register on December 6, 2013, and is extending the public comment period. The document proposed to amend the NRC's spent fuel storage regulations by revising the Holtec International HI-STORM 100 Cask System listing within the “List of Approved Spent Fuel Storage Casks” to include Amendment No. 9 to Certificate of Compliance (CoC) No. 1014. This action is necessary to correct the NRC's Agencywide Documents Access and Management System (ADAMS) accession numbers for the CoC and the ADAMS document package containing the CoC, the Safety Evaluation Report (SER), and the Technical Specifications (TSs) for this amendment; and to extend the public comment period.

DATES: The comment period for the proposed rule published December 6, 2013, at 78 FR 73456, is extended. Comments are due by January 27, 2014.

ADDRESSES: Please refer to Docket ID NRC-2012-0052 when contacting the NRC about the availability of information for this action. You may access publicly-available information related to this action by any of the following methods:

• Federal Rulemaking Web site: Go to http://www.regulations.gov and search for Docket ID NRC-2012-0052. Address questions about NRC dockets to Carol Gallagher, telephone: 301-287-3422, email: Carol.Gallagher@nrc.gov. For technical questions, contact the individual listed in the FOR FURTHER INFORMATION CONTACT section of this document.

• NRC's Agencywide Documents Access and Management System (ADAMS): You may access publicly available documents online in the NRC Library at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to: pdr.resource@nrc.gov.

• NRC's PDR: You may examine and purchase copies of public documents at the NRC's PDR, Room O-1F21, One White Flint North, 11555 Rockville Pike, Rockville, Maryland 20852.

FOR FURTHER INFORMATION CONTACT: Naiem S. Tanious, Office of Federal and State Materials and Environmental Management Programs, U.S. Nuclear Regulatory Commission, Washington, DC 20555-0001, telephone: 301-415-6103, email: Naiem.Tanious@nrc.gov.

SUPPLEMENTARY INFORMATION:

Corrections

The NRC is correcting the ADAMS accession numbers for the CoC and the ADAMS document package containing the CoC, SER, and the TSs for this amendment because the documents referenced by accession numbers in the proposed rule the NRC published on December 6, 2013 (78 FR 73456; Fr. Doc. 2013-29160), do not clearly display the proposed changes to the documents.

In Fr. Doc. 2013-29160, on page 73456, in the second column, second line from the bottom of the page, “ML120530246” is corrected to read “ML13351A224.” On page 73456, in the third column, second line from the top of the page, “ML120530271” is corrected to read “ML13351A205.”

In the Rules and Regulations section of this issue of the Federal Register, the NRC is publishing a document to correct and delay the effective date of the direct final rule (78 FR 73379; December 6, 2013). Specifically, ADAMS accession numbers for the CoC, the SER, and the ADAMS document package containing the CoC, the SER, and the TSs for this amendment will be corrected and the effective date will be delayed from February 19, 2014, to March 11, 2014.

Extension of Comment Period

The public comment period is being extended from January 6, 2014, to January 27, 2014, to provide the public the opportunity to review all information related to the rulemaking.

Dated at Rockville, Maryland, this 19th day of December, 2013.
For the Nuclear Regulatory Commission.
Leslie Terry,
Acting Chief, Rules, Announcements, and Directives Branch, Division of Administrative Services, Office of Administration.

[FR Doc. 2013-30864 Filed 12-24-13; 8:45 am]

BILLING CODE 7590-01-P